DEPARTMENT OF THE INTERIOR

Bureau of Land Management

[WY-100-2008-1310-DJ]

Notice of Extension of the Call for Nominations for the Pinedale Anticline Working Group and Task Groups (PAWG)

AGENCY: Bureau of Land Management, Interior.

ACTION: Notice of Extension of the Call for Nominations for the Pinedale Anticline Working Group and Task Groups (PAWG).

SUMMARY: The Bureau of Land Management (BLM) is extending the call for nominations for six membership positions on the PAWG. The original notice calling for nominations was published in the Federal Register on May 21, 2008 [73 FR 29532]. The original deadline for the call for nominations was June 20, 2008, 30 days from the publication of the original notice. The purpose of the Working Group and Task Groups will be to advise the BLM, Pinedale Field Office Manager, regarding recommendations on matters pertinent to the BLM's responsibilities related to the Pinedale Anticline Environmental Impact Statement and Record of Decision.

DATES: Submit a completed nomination form and nomination letters no later than July 20, 2008.

FOR FURTHER INFORMATION CONTACT: Lauren McKeever, PAWG Coordinator, Bureau of Land Management, Pinedale Field Office, 1625 West Pine Street, P.O. Box 768, Pinedale, Wyoming 82941, Phone: (307) 367-5352.

Dated: June 20, 2008.
Jamie E. Connell,
Acting Associate State Director.

[FR Doc. E8-14503 Filed 6-25-08; 8:45 am]

BILLING CODE 4310-22-P